DEPARTMENT OF THE INTERIOR

Bureau of Land Management

[LLAKA02000.L1430FR; AA-091096]

Notice of Realty Action: Recreation and Public Purposes Act Classification; Alaska

AGENCY: Bureau of Land Management, Interior.

ACTION: Notice of Realty Action.

SUMMARY: The Bureau of Land Management (BLM) has examined and found suitable for classification for lease under the Recreation and Public Purposes (R&PP) Act, as amended, approximately 1 acre of public land near Delta Junction, Alaska. The State of Alaska, Department of Fish and Game (ADF&G) proposes to use the land for a free public use cabin/administrative use cabin.

DATES: Interested parties may submit comments regarding the proposed classification/lease of the lands on or before July 20, 2009.

ADDRESSES: Send written comments to the Field Manager, BLM Glennallen Field Office; P.O. Box 147; Glennallen, Alaska, 99588.

FOR FURTHER INFORMATION CONTACT: Tami Jindra, Realty Specialist, Bureau of Land Management, Glennallen Field Office at (907) 822-3217.

SUPPLEMENTARY INFORMATION: The following described public land has been examined and found suitable for classification for lease, but not conveyance, under the provisions of the R&PP Act, as amended (43 U.S.C. 869 et seq.) An unsurveyed parcel containing approximately 1 acre located in:

Fairbanks Meridian, Alaska

T. 14 S., R. 10 E.,

Sec. 21, NW¼SE¼SW¼.

The area described above contains approximately 1 acre, more or less.

The State of Alaska, Department of Fish and Game proposes using the land for a free public use/administrative cabin to enhance the public use and administrative capacity of the adjacent lake known locally as “Ken's Pond”, which is stocked by ADF&G with game fish. The cabin is currently under a short term permit and serialized under AA-087904. Additional detailed information pertaining to this application, plan of development, and site plan is in case file AA-091096, located in the BLM Glennallen Field Office at the above address.

Upon publication of this notice in the Federal Register, the land will be segregated from all other forms of appropriation under the public land laws, including the general mining laws, except for lease under the R&PP Act, leasing under the mineral leasing laws, and disposals under the mineral material laws.

The land is not needed for any Federal purpose. The lease is consistent with the BLM East Alaska Resource Management Plan approved September, 2007, and would be in the public interest. The lease will be subject to the provisions of the R&PP Act and applicable regulations of the Secretary of the Interior, and will contain the following reservations to the United States:

1. A right-of-way thereon for ditches or canals constructed by the authority of the United States, Act of August 30, 1890 (43 U.S.C. 945); and

2. All minerals, together with the right to prospect for, mine, and remove such deposits from the same under applicable law and such regulations as the Secretary of the Interior may prescribe.

The lease will also be subject to:

Valid existing rights.

Classification Comments: Interested persons may submit comments involving the suitability of the land for development of a public use/administrative cabin, including whether the land is physically suited for the proposal, whether the use will maximize the future use or uses of the land, whether the use is consistent with local planning and zoning, or if the use is consistent with State and Federal programs. All comments will be considered.

Application Comments: Interested persons may submit comments regarding the specific use proposed in the application and plan of development, whether the BLM followed proper administrative procedures in reaching the decision, or any other factor not directly related to the suitability of the lands for a public use/administrative cabin.

Only written comments submitted by postal service or overnight mail to the Field Manager, BLM Glennallen Field Office, will be considered properly filed. Electronic mail, facsimile, or telephone comments will not be considered properly filed.

Before including your address, phone number, e-mail address, or other personal identifying information in your comment, you should be aware that your entire comment—including your personal identifying information—may be made publicly available at any time. While you can ask us in your comment to withhold your personal identifying information from public review, we cannot guarantee that we will be able to do so.

Any adverse comments will be reviewed by the BLM Alaska State Director, who may sustain, vacate, or modify this realty action.

In the absence of any adverse comments, the classification and decision to lease the land as described in the notice will become effective on August 3, 2009.

(Authority: 43 CFR 2741.5)

William Runnoe,
Glennallen Field Manager.

[FR Doc. E9-13010 Filed 6-3-09; 8:45 am]

BILLING CODE 4310-JA-P